DEPARTMENT OF COMMERCE

International Trade Administration

Decision on Application for Duty-Free Entry of Scientific Instruments; Rice University, et. al

This is a decision pursuant to Section 6(c) of the Educational, Scientific, and Cultural Materials Importation Act of 1966 (Pub. L. 89-651, as amended by Pub. L. 106-36; 80 Stat. 897; 15 CFR part 301). On October 19, 2020, the Department of Commerce published a notice in the Federal Register requesting public comment on whether instruments of equivalent scientific value, for the purposes for which the instruments identified in the docket(s) below are intended to be used, are being manufactured in the United States. See Application(s) for Duty-Free Entry of Scientific Instruments, 85 FR 66305, October 19, 2020 (Notice). We received no public comments. Related records can be viewed through prior arrangement with Ms. Dianne Hanshaw at Dianne.Hanshaw@trade.gov.

Docket Number: 20-003. Applicant: Rice University, Department of Microengineering, 6100 Main Street, Houston, TX 77030. Instrument: Ultrasonic Linear Piezo Stage and controller. Manufacturer: Xeryon, Belgium. Intended Use: See Notice at 85 FR 66305, October 19, 2020. Comments: None received. Decision: Approved. We know of no instruments of equivalent scientific value to the foreign instruments described below, for such purposes as this is intended to be used, that were being manufactured in the United States at the time of order. Reasons: According to the applicant, the instrument will be used to study automatic and large-scale surgical implantation of nanoelectrode threads into rodent and primate brains. Specifically, a platform is developed that can insert 8 ultraflexible nanoelectrode threads (uNETs) into the brain simultaneously and independently, while each insertion site is flexibly defined by the surgeons' and researchers' need and can be precisely researched by micromanipulators. Successful development of this technology will significantly reduce the time, errors and tissue trauma during brain surgery, meanwhile, it will open opportunities such as slow-speed insertion, flexibly targeting multiple regions and large-scale neural recordings.

Docket Number: 20-004. Applicant: Texas A&M University, AgriLife Research, 2147 TAMU, College Station, TX 77843-2147A. Instrument: 3D Microfabrication System Photonic Professional GT. Manufacturer: Nanoscribe, Germany. Intended Use: See Notice at 85 FR 66305-06, October 19, 2020. Comments: None received. Decision: Approved. We know of no instruments of equivalent scientific value to the foreign instruments described below, for such purposes as this is intended to be used, that were being manufactured in the United States at the time of order. Reasons: According to the applicant, the instrument will be used to conduct research in the broad areas of material research, thin-film metal semiconductors, bio- microfluidics, medical devices and optical/photonic devices, to name a few. These physical platforms will manifest in the forms of devices (ranging from 1-200 cm²) that will then be taken to individual laboratories for further experimentation in the aforementioned fields under the guidance and scope of the Texas A&M University research communities.

Docket Number: 20-005. Applicant: University of Chicago Argonne LLC, Operator of National Laboratory 9700 South Cass Avenue, Lemont, IL 60439-4873. Instrument: Libera Brilliance+ 4/4 with GDX module BPM electronics. Manufacturer: Instrumentation Technologies D.D., Solvenia. Intended Use: See Notice at 85 FR 66305, October 19, 2020. Comments: None received. Decision: Approved. We know of no instruments of equivalent scientific value to the foreign instruments described below, for such purposes as this is intended to be used, that were being manufactured in the United States at the time of order. Reasons: According to the applicant, the instrument will be used to study precision measurement for the particle beam position in the Advanced Photon Source Upgrade storage ring. The measurement information is used to steer the particle beam and photon beam that will be used as a three-dimensional X-ray microscope for experimental purposes. The materials/phenomena include material properties analysis, protein mapping for pharmaceutical companies, X-ray imaging and chemical composition determination and many others, but are not limited to grain structure, grain boundary and interstitial defects and morphology. These properties are not only studied at ambient environments, but also under high pressure, temperature, stress and strain.

Docket Number: 20-006. Applicant: University of Chicago Argonne LLC, Operator of National Laboratory 9700 South Cass Avenue, Lemont, IL 60439-4873. Instrument: Canted Undulator GRID Masks. Manufacturer: Strumenti Scientific CINEL S.R.L., Italy. Intended Use: See Notice at 85 FR 66305, October 19, 2020. Comments: None received. Decision: Approved. We know of no instruments of equivalent scientific value to the foreign instruments described below, for such purposes as this is intended to be used, that were being manufactured in the United States at the time of order. Reasons: According to the applicant, the instrument will be used to study and assemble the new canted undulator front ends for the Advanced Photon Source upgrade. The front end consists of a series of components that connect the storage ring to the user beamline in order to deliver a photon beam that will be used as a three-dimensional X-ray microscope for experimental purposes. The materials/phenomena vary widely from material properties analysis, protein mapping for pharmaceutical companies, X-ray imaging and chemical composition determination to name a few. The properties of the materials are not limited to grain structure, grain boundary and interstitial defects and morphology. These properties are studied at ambient environments but also under high pressure, temperature, stress and strain.

Docket Number: 20-007. Applicant: University of Chicago Argonne LLC, Operator of National Laboratory 9700 South Cass Avenue, Lemont, IL 60439-4873. Instrument: Canted Undulator Premasks and Exit Masks. Manufacturer: Strumenti Scientific CINEL S.R.L., Italy. Intended Use: See Notice at 85 FR 66305, October 19, 2020. Comments: None received. Decision: Approved. We know of no instruments of equivalent scientific value to the foreign instruments described below, for such purposes as this is intended to be used, that were being manufactured in the United States at the time of order. Reasons: According to the applicant, the instrument will be used to study and assemble the new canted undulator front ends for the Advanced Photon Source upgrade. The front end consists of a series of components that connect the storage ring to the user beamline in order to deliver a photon beam that will be used as a three-dimensional X-ray microscope for experimental purposes. The materials/phenomena vary widely from material properties analysis, protein mapping for pharmaceutical companies, X-ray imaging and chemical composition determination to name a few. The properties of the materials are not limited to grain structure, grain boundary and interstitial defects and morphology. These properties are studied at ambient environments but also under high pressure, temperature, stress and strain.

Dated: November 20, 2020.
Richard Herring,
Acting Director, Subsidies Enforcement, Enforcement and Compliance.

[FR Doc. 2020-26620 Filed 12-2-20; 8:45 am]

BILLING CODE 3510-DS-P